ENVIRONMENTAL PROTECTION AGENCY

[FRL-9495-4]

Adequacy Status of Motor Vehicle Emissions Budgets in Submitted PM10 Maintenance Plan for Sacramento County; CA

AGENCY: Environmental Protection Agency (EPA).

ACTION: Notice of adequacy.

SUMMARY: In this notice, EPA is notifying the public that the Agency has found that the motor vehicle emissions budgets (MVEBs) for particulate matter with an aerodynamic diameter of a nominal 10 microns or less (PM10) for the years 2008, 2012, and 2022 in the PM10 Implementation/Maintenance Plan and Redesignation Request for Sacramento County (October 28, 2010) (“Sacramento PM10 Plan”) are adequate for transportation conformity purposes. The Sacramento PM10 Plan was submitted to EPA on December 7, 2010 by the California Air Resources Board (CARB) as a revision to the California State Implementation Plan (SIP) and includes a maintenance plan for the 1987 24-hour PM10 national ambient air quality standard. As a result of our adequacy findings, the Sacramento Area Council of Governments and the U.S. Department of Transportation must use the MVEBs for future conformity determinations.

DATES: This finding is effective December 8, 2011.

FOR FURTHER INFORMATION CONTACT: John Ungvarsky, U.S. EPA, Region IX, Air Division AIR-2, 75 Hawthorne Street, San Francisco, CA 94105-3901, (415) 972-3963 or ungvarsky.john@epa.gov.

SUPPLEMENTARY INFORMATION: Throughout this document, whenever “we,” “us,” or “our” is used, we mean EPA.

Today's notice is simply an announcement of a finding that we have already made. EPA Region IX sent a letter to CARB on November 4, 2011 stating that the MVEBs in the submitted Sacramento PM10 Plan for the years of 2008, 2012 and 2022 are adequate. The finding is available at EPA's conformity Web site: http://www.epa.gov/otaq/stateresources/transconf/adequacy.htm. The adequate MVEBs are provided in the following table:

Sacramento PM10 Plan MVEBs
[Winter season, tons per day]
Budget year | Oxides of nitrogen | PM10
2008 | 50 | 15
2012 | 38 | 15
2022 | 19 | 17

Receipt of the MVEBs in the Sacramento PM10 Plan was announced on EPA's transportation conformity Web site on September 1, 2011. We received no comments in response to the adequacy review posting. The finding is available at EPA's transportation conformity Web site: http://www.epa.gov/otaq/stateresources/transconf/adequacy.htm.

Transportation conformity is required by Clean Air Act section 176(c). EPA's conformity rule requires that transportation plans, transportation improvement programs, and projects conform to SIPs and establishes the criteria and procedures for determining whether or not they do conform. Conformity to a SIP means that transportation activities will not produce new air quality violations, worsen existing violations, or delay timely attainment of the national ambient air quality standards.

The criteria by which we determine whether a SIP's MVEBs are adequate for conformity purposes are outlined in 40 CFR 93.118(e)(4) which was promulgated in our August 15, 1997 final rule (62 FR 43780, 43781-43783). We have further described our process for determining the adequacy of submitted SIP budgets in our July 1, 2004 final rule (69 FR 40004, 40038), and we used the information in these resources in making our adequacy determination. Please note that an adequacy review is separate from EPA's completeness review, and should not be used to prejudge EPA's ultimate approval action for the SIP. Even if we find a budget adequate, the SIP could later be disapproved.

Authority: 42 U.S.C. 7401 et seq.

Dated: November 4, 2011.
Jared Blumenfeld,
Regional Administrator, Region IX.

[FR Doc. 2011-30305 Filed 11-22-11; 8:45 am]

BILLING CODE 6560-50-P